DEPARTMENT OF HOUSING AND URBAN DEVELOPMENT

[Docket No. FR-5194-N-09]

Notice of Submission of Proposed Information Collection: Comment Request Public Housing Financial Management Template

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: May 23, 2008.

ADDRESSES: Interested persons are invited to submit comments regarding this proposal. Comments should refer to the proposal by name/or OMB Control number and should be sent to: Lillian L. Deitzer, Departmental Reports Management Officer, QDAM, Room 4176, Department of Housing and Urban Development, 451 7th Street, SW., Washington, DC 20410-5000; telephone: 202-708-2374 (this is not a toll-free number) or e-mail Ms. Deitzer at Lillian_L._Deitzer @Hud.gov. for a copy of the proposed form and other available information.

FOR FURTHER INFORMATION CONTACT: Mary Schulhof, Office of Policy, Programs and Legislative Initiatives, PIH, Room 4116, Department of Housing and Urban Development, 451 Seventh Street, SW., Washington, DC 20410; telephone: 202-708-0713 (this is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Financial Management Template.

OMB Control Number: 2535-0107.

Description of the Need for the Information and Proposed Use: To meet the requirements of the Public Housing Assessment System (PHAS) rule, the Department has developed the financial condition template that public housing agencies (PHAs) use to annually submit electronically specific financial condition information to HUD. HUD uses the financial condition information it collects from each PHA to assist in the evaluation and assessment of the PHAs' overall condition.

To meet the requirements of 24 CFR part 990, Revision to the Public Housing Operating Fund Program; Final Rule, financial condition information is to be submitted by PHAs on the asset management project (AMP) level. The final rule states that, in accordance with the directives received from the U.S. Congress, PHAs and HUD are to convert from an agency-centric model to an asset management model. The asset management model is more consistent with the management norms in the broader multi-family management industry. In order to implement asset management, the final rule stipulates that PHAs must implement project-based management, budgeting and accounting. The final rule provides for operating subsidy to be provided at the project level with financial reporting required at the project level, replacing the current subsidy issuance and financial reporting at the PHA or entity-wide level.

Requiring PHAs to report electronically has enabled HUD to provide a more comprehensive assessment of the PHAs receiving federal funds from HUD.

Agency form number, if applicable: N/A

Members of affected public: Public housing agencies.

Estimation of the Total Number of Hours Needed to Prepare the Information Collection, Including Number of Respondents: The estimated number of respondents is 3,996 PHAs that submit one audited financial condition template annually and one unaudited financial condition template annually. The average number for each PHA response is 10.5 hours, for a total reporting burden of 41,885 hours.

Status of the Proposed Information Collection: Revision of a currently approved collection.

Authority: Section 3506 of the Paperwork Reduction Act of 1995, 44 U.S.C. Chapter 35, as amended.

Dated: March 18, 2008.
Bessy Kong,
Deputy Assistant Secretary, Office of Policy, Program and Legislative Initiatives.

[FR Doc. E8-5899 Filed 3-21-08; 8:45 am]

BILLING CODE 4210-67-P